DEPARTMENT OF TRANSPORTATION

Pipeline and Hazardous Materials Safety Administration

[Docket No. PHMSA-2023-0013]

Pipeline Safety: Carbon Dioxide Pipeline Safety Public Meeting

AGENCY: Pipeline and Hazardous Materials Safety Administration (PHMSA), DOT.

ACTION: Notice of public meeting and webcast.

SUMMARY: This notice announces a public meeting and forum on carbon dioxide (CO2) pipeline safety titled: “CO2 Public Meeting 2023.”

DATES: The CO2 Public Meeting 2023 will be held on May 31-June 1, 2023, in Des Moines, Iowa, from 8:30 a.m. to 4:30 p.m. (MT). Anyone who would like to attend the public meeting must register by May 12, 2023. Individuals requiring accommodations, such as sign language interpretation or other aids, are asked to notify PHMSA no later than May 12, 2023.

ADDRESSES: This public meeting and forum will be held in person and via webcast. The agenda and instructions on how to attend will be published once they are finalized on the following public meeting registration page: https://primis.phmsa.dot.gov/meetings/MtgHome.mtg?mtg=165.

Presentations: Presentations will be available on the meeting website and on the E-gov website, https://regulations.gov, at docket number PHMSA-2023-0013, no later than 30 days following the meeting.

Submitting Comments: You may submit comments, identified by Docket No. PHMSA-2023-0013, by any of the following methods:

• E-Gov Web: https://www.regulations.gov. This site allows the public to enter comments on any Federal Register notice issued by any agency. Follow the online instructions for submitting comments.

• Mail: Docket Management System: U.S. Department of Transportation (DOT), 1200 New Jersey Avenue SE, West Building Ground Floor, Room W12-140, Washington, DC 20590-0001.

• Hand Delivery: DOT Docket Management System: 1200 New Jersey Avenue SE, West Building Ground Floor, Room W12-140, between 9 a.m. and 5 p.m. ET, Monday through Friday, except federal holidays.

• Fax: 202-493-2251. The Docket Management Facility, U.S. Department of Transportation will not issue confirmation notices for faxed comments.

• Instructions: Identify Docket No. PHMSA-2023-0013 at the beginning of your comments. If you submit your comments by mail, please submit two copies. If you wish to receive confirmation that PHMSA received your comments, you must include a self-addressed stamped postcard. Internet users may submit comments at: http://www.regulations.gov.

• Note: All comments received are posted without edits to http://www.regulations.gov, including any personal information provided. Please see the Privacy Act heading below.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and is relevant or responsive to this notice, it is important that you clearly designate the submitted comments as CBI. Pursuant to 49 Code of Federal Regulations (CFR) 190.343, you may ask PHMSA to provide confidential treatment to information you give the agency by taking the following steps: (1) mark each page of the original document submission containing CBI as “Confidential;” (2) send PHMSA a copy of the original document with the CBI deleted along with the original, unaltered document; and (3) explain why the information you are submitting is CBI. Submissions containing CBI should be sent to Max Kieba, 1200 New Jersey Avenue SE, DOT: PHMSA—PHP-40, Washington, DC 20590-0001. Any commentary PHMSA receives that is not specifically designated as CBI will be placed in the public docket.

• Privacy Act: DOT may solicit comments from the public regarding certain general notices. DOT posts these comments, without edit, including any personal information the commenter provides, to www.regulations.gov, as described in the system of records notice (DOT/ALL-14 FDMS), which can be reviewed at www.dot.gov/privacy.

• Docket: For access to the docket to read background documents or comments received, go to https://www.regulations.gov. Follow the online instructions for accessing the dockets. Alternatively, you may review the documents in person at the street address listed above.

FOR FURTHER INFORMATION CONTACT: Max Kieba, Director, Program Development, by phone at 202-420-9169 or via email at max.kieba@dot.gov.

SUPPLEMENTARY INFORMATION: The public meeting will serve as an opportunity for pipeline stakeholders to help inform pipeline safety-related rulemaking decisions and share information surrounding CO2 pipeline safety. Key stakeholders include the public, states, tribal governments, other federal agencies, industry, and international regulators and/or organizations. Key topics are expected to include:

• Safety expectations for pipeline operators.

• General state of CO2 pipeline infrastructure—current mileage and forecasts.

• Federal and state jurisdictions and authorities.

• Public awareness, engagement, and emergency notification.

• Emergency equipment, training, and response.

• Dispersion modeling.

• Safety measures to address other constituents besides CO2 in CO2 pipelines.

• Leak detection and reporting.

• Geohazards.

• Conversion to service.

• Environmental justice.

Anticipated speakers/participants are expected to include:

• Public advocacy groups.

• Pipeline operators.

• Federal regulators.

• Tribal governments.

• States through the National Association of Pipeline Safety Representatives (NAPSR).

• Other U.S. government agencies.

• International governments or other international organizations.

• Others from academia, emergency response community and industry.

The mission of PHMSA is to protect people and the environment by advancing the safe transportation of energy products and other hazardous materials that are essential to our daily lives. This meeting is a follow-up to PHMSA's May 2022 press release announcing new safety measures to protect Americans from carbon dioxide pipeline failures after the Satartia, Mississippi, incident (https://www.phmsa.dot.gov/news/phmsa-announces-new-safety-measures-protect-americans-carbon-dioxide-pipeline-failures), and the December 2022 public meeting that discussed several topics, including some aspects of calculating potential impact radii for CO2 pipeline releases. PHMSA also received a letter from the Pipeline Safety Trust on February 17, 2023 (Docket No. PHMSA-2022-0125), formally requesting that PHMSA hold a public meeting on CO2 pipeline safety and the announced rulemaking under RIN 2137-AF60.

Public Participation: The meeting and forum will be open to the public. Members of the public who wish to attend must register on the meeting website, including their names and organization affiliation. PHMSA is committed to providing all participants with equal access to these meetings. If you need disability accommodations, please contact Janice Morgan by email at janice.morgan@dot.gov.

PHMSA is not always able to publish a notice in the Federal Register quickly enough to provide timely notification of last-minute changes that impact scheduled meetings. Therefore, individuals should check the meeting website listed in the ADDRESSES section of this notice or contact Janice Morgan by phone at 202-815-4705 or via email at janice.morgan@dot.gov regarding any possible changes.

PHMSA invites public participation and public comment on the topics addressed in this public meeting and forum. Please review the ADDRESSES section of this notice for information on how to submit written comments.

Agenda Summary: This CO2 Safety Public Meeting is to help inform pipeline safety-related rulemaking decisions and provide a venue for information exchange among key stakeholders including the public, states, tribal governments, other federal agencies, industry, and international colleagues.

Issued in Washington, DC, on April 17, 2023, under authority delegated in 49 CFR 1.97.
Massoud Tahamtani,
Deputy Associate Administrator for Pipeline Policy and Programs.

[FR Doc. 2023-08369 Filed 4-19-23; 8:45 am]

BILLING CODE 4910-60-P